DEPARTMENT OF ENERGY

Federal Energy Regulatory Commission

Combined Notice of Filings; Additional Types of Filings To Be Included in Combined Notice of Filings

June 1, 2006.

The purpose of this notice is to announce that effective June 1, 2006, the Commission will issue notices for the following types of filings using the combined notice of filings method instituted on May 17, 2005.

EC—Applications of Electric Public Utilities For Authority to Sell, Lease, Purchase, Acquire, or Merge and Applications for Determination of Jurisdiction

EG—Applications for Exempt Wholesale Generation Determination

ES—Issuance of Securities and Assumption of Liabilities of Electric Utilities

FC—Foreign Utility Company Request

PH—Exemption from or Waiver of Regulation as Holding Company

In addition, the Secretary is making the following changes to the filing procedures for the types of filings listed above:

1. Filers are no longer required to include draft notices in floppy disk format with the filing.

2. Filers requesting a short comment period for the filing must clearly state such request in the “Re:” section of the filing, for example:

Re: Signal Hill Wichita Falls Power, L.P.

Docket No. EG06-___

Request for shortened comment period

The notices issued under the combined notice of filings method will be added to eLibrary and will be published in the Federal Register under the name “Combined Notice of Filings.” Each filing will be listed with its identifying details as follows:

Docket Number—This item contains a hyperlink to the eLibrary docket sheet for the docket number.

Name of Applicant(s)—This item shows the applicant name as it appears on the filing.

Description—This item contains a basic description of the filing and a hyperlink that opens the filed document in eLibrary, as stored in eLibrary.

Filing Date—This item shows the date on which the document was filed with the Commission.

Accession Number—This item contains a hyperlink that will open the “Info” area of eLibrary for the filed document. There may be instances in which the accession number for the particular filing changes after issuance of the combined notice. In this case, the user will have to search eLibrary to access the document.

Comment Date—This item indicates the comment date for the particular filing.

The “Combined Notice of Filings” is indexed in eLibrary as follows, for example: “Combined Notice of Filings, June 1, 2006: This notice contains information concerning multiple filings received by FERC.” The Commission may issue more than one “Combined Notice of Filings” on any given day. In this case, the eLibrary index will read as follows, for example: “Combined Notice of Filings; June 1, 2006 #2: This notice contains information concerning multiple filings received by FERC.”

In time, the Commission expects to issue the majority of notices of filings using the combined notice of filings method. By this initiative, the Commission seeks to simplify the manner in which the Commission's staff prepares notices and thereby expedite the public issuance of notices.

Magalie R. Salas,
Secretary.

[FR Doc. E6-8867 Filed 6-7-06; 8:45 am]

BILLING CODE 6717-01-P